DEPARTMENT OF COMMERCE

National Oceanic and Atmospheric Administration

[RTID 0648-XC868]

Marine Mammals; File No. 26663

AGENCY: National Marine Fisheries Service (NMFS), National Oceanic and Atmospheric Administration (NOAA), Commerce.

ACTION: Notice; receipt of application.

SUMMARY: Notice is hereby given that the Alaska Whale Foundation, PO Box 1927, Petersburg, AK 99833 (Responsible Party: Fred Sharpe, Ph.D.), has applied in due form for a permit to conduct research on cetaceans.

DATES: Written, telefaxed, or email comments must be received on or before April 27, 2023.

ADDRESSES: The application and related documents are available for review by selecting “Records Open for Public Comment” from the “Features” box on the Applications and Permits for Protected Species (APPS) home page, https://apps.nmfs.noaa.gov, and then selecting File No. 26663 from the list of available applications. These documents are also available upon written request via email to NMFS.Pr1Comments@noaa.gov.

Written comments on this application should be submitted via email to NMFS.Pr1Comments@noaa.gov. Please include File No. 26663 in the subject line of the email comment.

Those individuals requesting a public hearing should submit a written request via email to NMFS.Pr1Comments@noaa.gov. The request should set forth the specific reasons why a hearing on this application would be appropriate.

FOR FURTHER INFORMATION CONTACT: Carrie Hubard or Shasta McClenahan, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant requests a 5 year permit to study humpback whales (Megaptera novaeangliae) and other cetaceans in southeast Alaska. Research would be conducted using motorized vessels, hand-powered watercraft, unmanned aircraft systems, and underwater snorkelers. Humpback whales would be studied via photo-id, photogrammetry, behavioral observations, passive acoustic recordings, suction-cup tagging, and biological sampling (exhaled air, sloughed skin, fecal, and skin/blubber biopsy). The purpose of the research is to study humpback whale distribution, abundance trends, acoustic ecology, and health metrics and opportunistically study other cetacean species in the study area. Nine additional cetacean species, including endangered fin (Balaenoptera physalus), gray (Eschrichtius robustus), and sperm (Physeter macrocephalus) whales, may be opportunistically studied or unintentionally harassed. Harbor seals (Phoca vitulina) and Steller sea lions (Eumetopias jubatus) may also be unintentionally harassed during acoustic activities. See the application for complete numbers of animals requested by species, life stage, and procedure.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 22, 2023.
Julia M. Harrison,
Chief, Permits and Conservation Division, Office of Protected Resources, National Marine Fisheries Service.

[FR Doc. 2023-06394 Filed 3-27-23; 8:45 am]

BILLING CODE 3510-22-P